DEPARTMENT OF JUSTICE

Antitrust Division

Notice Pursuant to the National Cooperative Research and Production Act of 1993—Open DeviceNet Vendor Association, Inc.

Notice is hereby given that, on June 4, 2008, pursuant to Section 6(a) of the National Cooperative Research and Production Act of 1993, 15 U.S.C. 4301 et seq. (“the Act''), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, Welding Technology Corporation of Michigan, Farmington Hills, MI; Graco, Inc., Minneapolis, MN; Salem Automation Inc., Winston Salem, NC; Altera Corporation, San Jose, CA; S-Net Automation Co., Ltd., Kwangin-Gu, Seoul, REPUBLIC OF KOREA; Ethernet Direct Corporation, Taipei, TAIWAN; Chiyoda Co., Ltd., Warabi City, Saitama, JAPAN; and Hitachi Industrial Equipment Systems Co., Ltd., Tokyo, JAPAN have been added as parties to this venture.

Also, Escort Memory Systems, Scotts Valley, CA; The Stanley Works, Troy, MI; CDA Systems, London, Ontario, CANADA; Switchgear and Instrumentation, Bradford, West Yorkshire, UNITED KINGDOM; Control Logic, Inc., Mea, AZ; ICP DAS Co. Ltd., Kao Hsiung, TAIWAN; Marathon Ltd., Moscow, RUSSIA; Rockwell Automation/Entek IRD Int'l, Milford, OH; PPT Vision, Inc., Eden Prairie, MN; Toyogiken Co., Ltd., Nagano, JAPAN; ACCU-Sort Systems, Inc., Telford, PA; Wizardry Inc., Gardnerville, NV; Sharp Manufacturing Systems Corporation, Osaka, JAPAN; Mac Valves, Wixom, MI; ISAS (Integrated Switchgear & Sys. Pty Ltd.), Darwin, Northern Territories, AUSTRALIA; and “APV Products,” Unna, GERMANY have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on March 18, 2008. A notice was published in the Federal Register pursuant to Section 6(b) of the Act on April 23, 2008 (73 FR 21984).

Patricia A. Brink,
Deputy Director of Operations, Antitrust Division.

[FR Doc. E8-15671 Filed 7-15-08; 8:45 am]

BILLING CODE 4410-11-M